DEPARTMENT OF THE TREASURY

Senior Executive Service Departmental Performance Review Board

AGENCY: Treasury Department.

ACTION: Notice of members of the Departmental Performance Review Board (PRB).

SUMMARY: This notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

DATES: Membership is effective on the date of this notice.

FOR FURTHER INFORMATION CONTACT: Julia J. Markham, Director, Office of Executive Resources, 1500 Pennsylvania Avenue NW, ATTN: 1722 Eye Street, 9th Floor, Washington, DC 20220, Telephone: (202) 927-4370.

SUPPLEMENTARY INFORMATION: Composition of Departmental PRB: The Board shall consist of at least three members. In the case of an appraisal of a career appointee, more than half the members shall consist of career appointees. The names and titles of the PRB members are as follows:

• David F. Eisner, Assistant Secretary for Management

• Kenneth Blanco, Director, Financial Crimes and Enforcement Network

• Jamal El-Hindi, Deputy Director, Financial Crimes and Enforcement Network

• Kimberly A. McCoy, Commissioner, Bureau of Fiscal Service

• Stephen L. Manning, Deputy Commissioner, Finance and Administration, Bureau of Fiscal Service

• Matthew J. Miller, Deputy Commissioner, Fiscal Accounting and Shared Services, Bureau of Fiscal Service

• Jeffrey J. Schramek, Deputy Commissioner, Financial Services and Operations, Bureau of Fiscal Service

• Martha Pacold, Deputy General Counsel

• Brian Callanan, Deputy General Counsel

• Kirsten Wielobob, Deputy Commissioner, Services and Enforcement, Internal Revenue Service

• Jeffrey Tribiano, Deputy Commissioner, Operations Support, Internal Revenue Service

• David A. Lebryk, Fiscal Assistant Secretary

• John J. Manfreda, Administrator, Alcohol and Tobacco Tax and Trade Bureau

• Mary G. Ryan, Deputy Administrator, Alcohol and Tobacco Tax and Trade Bureau

• Leonard Olijar, Director, Bureau of Engraving and Printing

• Patricia Greiner, Deputy Director and Chief Administrative Officer, Bureau of Engraving and Printing

• Charlene Williams, Deputy Director and Chief Operating Officer, Bureau of Engraving and Printing

Dated: October 10, 2018.
Julia J. Markham,
Director, Office of Executive Resources.

[FR Doc. 2018-23432 Filed 10-25-18; 8:45 am]

BILLING CODE 4810-25-P